DEPARTMENT OF ENERGY

Federal Energy Regulatory Commission

[Project No. 14109-000]

Oregon Winds Hydro, LLC; Notice of Preliminary Permit Application Accepted for Filing and Soliciting Comments, Motions To Intervene, and Competing Applications

On March 11, 2011, Oregon Winds Hydro, LLC filed an application for a preliminary permit, pursuant to section 4(f) of the Federal Power Act (FPA), proposing to study the feasibility of the Oregon Winds Pumped Storage Project to be located on the John Day River, near Condon, Gilliam County, Oregon. The sole purpose of a preliminary permit, if issued, is to grant the permit holder priority to file a license application during the permit term. A preliminary permit does not authorize the permit holder to perform any land-disturbing activities or otherwise enter upon lands or waters owned by others without the owners' express permission.

The proposed project will consist of the following: (1) An upper reservoir with a total storage capacity of 12,000 acre-feet at a normal maximum operating elevation of 2,480 feet mean sea level (msl); (2) a 60-foot-high, 9,120-foot-long upper embankment, Ring Dam; (3) a 200-foot-long, 19.2-foot-diameter concrete-lined low-pressure tunnel; (4) a lower reservoir with a total/usable storage capacity of 12,330 acre-feet at 1,240 feet msl; (5) a 6,500-foot-long, 19.2-foot-diameter concrete and steel-lined high-pressure tunnel; (6) an underground power house located 800 feet southwest of the lower reservoir; (7) a 13-mile-long, 230-kilovolt (kV) transmission line extending from the project substation to the point of interconnection with an existing overhead 500-kV transmission line. The estimated annual generation of the Oregon Winds Pumped Storage Project would be 1,533 gigawatt-hours.

Applicant Contact: Mr. Matthew Shapiro, CEO, Gridflex Energy, LCC; 1210 W. Franklin Street, Ste. 2; Boise, ID 83702; phone: (208) 246-9925.

FERC Contact: Ian Smith; phone: (202) 502-8943.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-14109-000) in the docket number field to access the document. For assistance, contact FERC Online Support.

Dated: April 1, 2011.
Kimberly D. Bose,
Secretary.

[FR Doc. 2011-8303 Filed 4-6-11; 8:45 am]

BILLING CODE 6717-01-P